DEPARTMENT OF AGRICULTURE

Rural Business-Cooperative Service

[Docket No. RBS-22-Business-0012]

Notice of Revision of a Currently Approved Information Collection

AGENCY: Rural Business-Cooperative Service, USDA.

ACTION: Notice, request for comment.

SUMMARY: In accordance with the Paperwork Reduction Act of 1995, this notice announces the Rural Business-Cooperative Service's intention to request a revision of a currently approved information collection package for the Biorefinery, Renewable Chemical, and Biobased Product Manufacturing Assistance Program.

DATES: Comments on this notice must be received by July 15, 2022.

FOR FURTHER INFORMATION CONTACT: Pamela Bennett, Regulations Management Division, Innovation Center, U.S. Department of Agriculture. Email: pamela.bennett@usda.gov. Telephone: (202) 720-9639.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that the Rural Business-Cooperative Service is submitting to OMB for approval. Comments are invited on: (a) Whether the proposed collection of information is necessary for the proper performance of the functions of the Rural Business-Cooperative Service, including whether the information will have practical utility; (b) the accuracy of the Rural Business-Cooperative Service's estimate of the burden of the proposed collection of information including validity of the methodology and assumptions used; (c) ways to enhance the quality, utility and clarity of the information to be collected; and (d) ways to minimize the burden of the collection of information on those who are to respond, including through the use of appropriate automated, electronic, mechanical, or other technological collection techniques or other forms of information technology.

Comments may be sent by the Federal eRulemaking Portal: Go to https://www.regulations.gov and, in the “Search” box, type in the Docket No. RBS-22-Business-0012. A link to the Notice will appear. You may submit a comment here by selecting the “Comment” button or you can access the “Docket” tab, select the “Notice,” and go to the “Browse & Comment on Documents” Tab. Here you may view comments that have been submitted as well as submit a comment. To submit a comment, select the “Comment” button, complete the required information, and select the “Submit Comment” button at the bottom. Information on using Regulations.gov, including instructions for accessing documents, submitting comments, and viewing the docket after the close of the comment period, is available through the site's “FAQ” link at the bottom.

Title: Biorefinery, Renewable Chemical, and Biobased Product Manufacturing Assistance Program (Section 9003).

OMB Control Number: 0570-0065.

Expiration Date of Approval: November 30, 2022.

Type of Request: Revision of a currently approved information collection.

Abstract: The Rural Business-Cooperative Service, an Agency within the United States Department of Agriculture, Rural Development, administers the Section 9003 program. The purpose of this information collection is to obtain information necessary to evaluate loan applications to determine the eligibility of the applicant and the project for the program and to qualitatively assess the project's technical and financial merit to determine which projects should be funded.

Estimate of Burden: The following annual estimates are based on an average volume of activity which includes: Nine Phase 1 applications, eight Phase 2 applications, and one new loan guarantee. Phase 1 applications are evaluated by the Agency to determine whether the borrower is eligible, the proposed loan is for an eligible purpose, there is reasonable assurance of repayment ability, there is sufficient collateral and equity, and the proposed loan complies with all applicable statutes and regulations. Phase 2 applications are required for Phase I applicants who score favorable and are invited to submit a Phase 2 application. The Agency anticipates the number of respondents to fluctuate based on funding levels.

Respondents: Respondents for this data are lending institutions and for-profit businesses but also include individuals and corporations. The annual estimates below are for both subparts associated with this rule.

Estimated Number of Respondents: 9.

Estimated Number of Responses per Respondent: 36.2.

Estimated Number of Responses: 326.

Estimated Total Annual Burden on Respondents: 7,765 hours.

Copies of this information collection can be obtained from Pamela Bennett, Rural Development Innovation Center, Regulations Management Division, at (202) 720-9639. All responses to this notice will be summarized and included in the request for OMB approval. All comments will also become a matter of public record.

Karama Neal,
Administrator, Rural Business-Cooperative Service.

[FR Doc. 2022-10441 Filed 5-13-22; 8:45 am]

BILLING CODE 3410-XY-P